FEDERAL COMMUNICATIONS COMMISSION

47 CFR Part 73

[DA 03-2754; MB Docket No. 03-131 RM-10702]

Radio Broadcasting Services; Quartzsite, Arizona

AGENCY: Federal Communications Commission.

ACTION: Final rule.

SUMMARY: In this document, the Commission allots Channel 290C2 at Quartzsite, Arizona, in response to a petition filed by Dana J. Puopolo. See 68 FR 36764 (June 19, 2003). Channel 290C2A can be allotted at Quartzsite, Arizona, with a site restriction 4.5 kilometers (2.8 miles) northeast of the community at coordinates 33-41-51 and 114-12-10. Although Mexican concurrence has been requested for the allotment of Channel 290C2 at Quartzsite, notification has not been received. Therefore, operation with the facilities specified for Channel 290C2 at Quartzsite herein is subject to modification, suspension or termination without right to hearing, if found by the Commission to be necessary in order to conform to the 1992 USA-Mexico FM Broadcast Agreement or if specifically objected to by Mexico. With this action, this proceeding is terminated. A filing window for channel 290C2 at Quartzsite will not be opened at this time. Instead, the issue of opening this allotment for auction will be addressed by the Commission in a subsequent order.

DATES: Effective October 20, 2003.

FOR FURTHER INFORMATION CONTACT: Kathleen Scheuerle, Media Bureau, (202) 418-2180.

SUPPLEMENTARY INFORMATION: This is a synopsis of the Commission's Report and Order, MB Docket No. 03-131, adopted September 3, 2003, and released September 5, 2003. The full text of this Commission decision is available for inspection and copying during normal business hours in the Commission's Reference Center, 445 12th Street, SW., Washington, DC. The complete text of this decision may also be purchased from the Commission's copy contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

2. Section 73.202(b), the Table of FM Allotments under Arizona, is amended by adding Channel 290C2 at Quartzsite.

Federal Communications Commission.
John A. Karousos,
Assistant Chief, Audio Division, Media Bureau.

[FR Doc. 03-23925 Filed 9-18-03; 8:45 am]

BILLING CODE 6712-01-P